DEPARTMENT OF LABOR

Employment and Training Administration

[TA-W-74,833]

Franklin Electric Company, Inc., Including On-Site Leased Workers From Peoplelink Staffing Solutions, Remedy Intelligent Staffing, Labor Ready, and Driveforce Transportation; Oklahoma City, OK; Amended Certification Regarding Eligibility To Apply for Worker Adjustment Assistance

In accordance with Section 223 of the Trade Act of 1974, as amended (“Act”), 19 U.S.C. 2273, the Department of Labor (Department) issued a Certification of Eligibility to Apply for Worker Adjustment Assistance on December 3, 2010, applicable to workers and former workers of Franklin Electric Company, Inc., including on-site leased workers from Peoplelink Staffing Solutions, Oklahoma City, Oklahoma. Workers at the subject firm were engaged in employment related to the production of light centrifugal pump products.

At the request of a company official, the Department reviewed the immediate certification.

The Department has received information that workers from Remedy Intelligent Staffing, Labor Ready, and DriveForce Transportation were employed on-site at the Oklahoma City, Oklahoma facility of Franklin Electric Company, Inc. The Department has determined that these workers were sufficiently under the control of the subject firm to be considered leased workers.

Based on these findings, the Department is amending this certification to include workers leased from Remedy Intelligent Staffing, Labor Ready, and DriveForce Transportation who worked on-site at the Oklahoma City, Oklahoma facility.

The amended notice applicable to TA-W-74,833 is hereby issued as follows:

All workers of Franklin Electric Company, Inc., including on-site leased workers from Peoplelink Staffing Solutions, Remedy Intelligent Staffing, Labor Ready, and DriveForce Transportation, Oklahoma City, Oklahoma, who became totally or partially separated from employment on or after November 3, 2009, through December 3, 2012, and all workers in the group threatened with total or partial separation from employment on December 3, 2010 through December 3, 2012, are eligible to apply for adjustment assistance under Chapter 2 of Title II of the Trade Act of 1974, as amended.

Signed in Washington, DC, this 18th day of January 2013.
Del Min Amy Chen,
Certifying Officer, Office of Trade Adjustment Assistance.

[FR Doc. 2013-02536 Filed 2-5-13; 8:45 am]

BILLING CODE 4510-FN-P